FEDERAL MARITIME COMMISSION

[Petition No. P5-04]

Petition of American President Lines, Ltd., and APL Co. Pte. Ltd., for a Full Exemption From the First Sentence of Section 9(c) of the Shipping Act of 1984, as Amended; Notice of Filing

Notice is hereby given that American President Lines, Ltd., and APL Co. Pte. Ltd., (“Petitioners”) have petitioned, pursuant to Section 16 of the Shipping Act of 1984, 46 U.S.C. app. 1715, and 46 CFR 502.69, for a full exemption from the first sentence of Section 9(c) of the 1984 Act, 46 U.S.C. app. 1708(c).* Petitioners seek an exemption to permit them to reduce their tariff rates, charges, classifications, rules or regulations, effective upon publication.

In order for the Commission to make a thorough evaluation of the Petition, interested persons are requested to submit views or arguments in reply to the Petition no later than October 12, 2004. Replies shall consist of an original and 15 copies, be directed to the Secretary, Federal Maritime Commission, 800 North Capitol Street, NW., Washington, DC 20573-0001, and be served on Petitioner's counsel, Robert T. Basseches, Esq., or David B. Cook, Esq., Shea & Gardner, 1800 Massachusetts Avenue, NW., Washington, DC 20036. It is also requested that a copy of the reply be submitted in electronic form (WordPerfect, Word, or ASCII) on diskette, or e-mailed to secretary@fmc.gov.

* While Petitioners, at the time they filed their Petition, do not meet the statutory definition of a controlled carrier within the meaning of the Shipping Act of 1984, as amended, Petitioners advise that they anticipate meeting this statutory definition in the very near future.

Copies of the Petition are available at the Office of the Secretary, Federal Maritime Commission, 800 North Capitol Street, NW., Room 1046. A copy may also be obtained by sending a request to secretary@fmc.gov or by calling 202-523-5725. Parties participating in this proceeding may elect to receive service of the Commission's issuances in this proceeding through e-mail in lieu of service by U.S. mail. A party opting for electronic service shall advise the Office of the Secretary in writing and provide an e-mail address where service can be made.

By the Commission.
Bryant L. VanBrakle,
Secretary.

[FR Doc. 04-21743 Filed 9-27-04; 8:45 am]

BILLING CODE 6730-01-P